INTERNATIONAL TRADE COMMISSION

[Investigation No. 337-TA-1038]

Certain Electronic Devices, Including Mobile Phones, Tablet Computers, and Components Thereof; Notice of a Commission Determination Not To Review an Initial Determination Granting a Joint Motion To Terminate the Investigation; Termination of the Investigation

AGENCY: U.S. International Trade Commission.

ACTION: Notice.

SUMMARY: Notice is hereby given that the U.S. International Trade Commission has determined not to review an initial determination (“ID”) (Order No. 26) of the presiding administrative law judge (“ALJ”) granting a joint motion to terminate the investigation based on settlement.

FOR FURTHER INFORMATION CONTACT: Amanda Pitcher Fisherow, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on January 27, 2017, based on a complaint and supplements, filed on behalf of Nokia Technologies Oy of Espoo, Finland (“complainant”). 82 FR 8626-27 (Jan. 27, 2017). The complaint, as supplemented, alleges violations of section 337 based upon the importation into the United States, the sale for importation, and the sale within the United States after importation of certain electronic devices, including mobile phones, tablet computers, and components thereof by reason of infringement of certain claims of U.S. Patent Nos. 7,415,247 (“the '247 patent”); 9,270,301 (“the '301 patent”); 6,393,260 (“the '260 patent”); 6,826,391 (“the '391 patent”); 6,480,700; 9,473,602; 7,653,366; and 8,036,619. The Notice of Investigation named Apple Inc., a/k/a Apple Computer, Inc. of Cupertino, California (“respondent”) as a respondent. The Office of Unfair Import Investigations (“OUII”) was named as a party. On January 26, 2017, the ALJ severed the investigation into two investigations. The '301, '391, '260 and '247 patents are now asserted in Inv. No. 337-TA-1039.

On June 7, 2017, complainant and respondent filed a joint motion to terminate the investigation based on a settlement agreement and related agreements. OUII did not oppose the motion. The parties represented that the Settlement and Release Agreement and related agreements reflect the entire and only agreements between the parties regarding the subject matter of the investigation and that there are no other agreements, written or oral, express or implied between the parties regarding the subject matter of the investigation. The parties were directed to file revised public versions of the settlement agreement and related agreements. On August 1, 2017, the parties filed an updated joint supplement submission reflecting the updates submitted in co-pending Inv. 337-TA-1039.

On August 8, 2017, the ALJ issued an order (Order No. 26) granting the joint motion to terminate the investigation. The ALJ found that no public interest concerns are implicated by this settlement. No petitions for review were filed.

The Commission has determined not to review the ID and terminates the investigation.

The authority for the Commission's determination is contained in section 337 of the Tariff Act of 1930, as amended (19 U.S.C. 1337), and in part 210 of the Commission's Rules of Practice and Procedure (19 CFR part 210).

By order of the Commission.
Issued: September 5, 2017.
Jessica Mullan,
Attorney Advisor.

[FR Doc. 2017-19084 Filed 9-7-17; 8:45 am]

BILLING CODE 7020-02-P